DEPARTMENT OF THE TREASURY

United States Mint

Citizens Coinage Advisory Committee Public Meeting

ACTION: Notification of Citizens Coinage Advisory Committee March 10-11, 2014, public meeting.

SUMMARY: Pursuant to United States Code, Title 31, section 5135(b)(8)(C), the United States Mint announces the Citizens Coinage Advisory Committee (CCAC) public meeting scheduled for March 10-11, 2014.

Date: March 10-11, 2014.

Time: March 10 1:00 p.m. to 4:45 p.m.

March 11 9:30 a.m. to 2:30 p.m.

Location: Conference Room A, United States Mint, 801 9th Street NW., Washington, DC 20220.

Subject: Review and discussion of candidate designs for the 2015 and 2016 Native American $1 Coin Program, 2015 and 2016 Presidential $1 Coin Program, First Special Service Force Congressional Gold Medal, and 2015 United States Marshals Service 225th Anniversary Commemorative Coin Program.

Interested persons should call the CCAC HOTLINE at (202) 354-7502 for the latest update on meeting time and room location.

In accordance with 31 U.S.C. 5135, the CCAC:

Advises the Secretary of the Treasury on any theme or design proposals relating to circulating coinage, bullion coinage, Congressional Gold Medals, and national and other medals.

Advises the Secretary of the Treasury with regard to the events, persons, or places to be commemorated by the issuance of commemorative coins in each of the five calendar years succeeding the year in which a commemorative coin designation is made.

Makes recommendations with respect to the mintage level for any commemorative coin recommended.

FOR FURTHER INFORMATION CONTACT: William Norton, United States Mint Liaison to the CCAC; 801 9th Street NW., Washington, DC 20220; or call 202-354-7200.

Any member of the public interested in submitting matters for the CCAC's consideration is invited to submit them by fax to the following number: 202-756-6525.

Authority: 31 U.S.C. 5135(b)(8)(C).

Dated: February 21, 2014.
Richard A. Peterson,
Deputy Director, United States Mint.

[FR Doc. 2014-04379 Filed 2-27-14; 8:45 am]

BILLING CODE 4810-37-P